DEPARTMENT OF TRANSPORTATION

Federal Aviation Administration

[Docket No. FAA-2017-0975]

Agency Information Collection Activities: Submissions for OMB Approval

AGENCY: Federal Aviation Administration (FAA), Department of Transportation (DOT).

ACTION: 30-day notice and request for comments.

SUMMARY: The Federal Aviation Administration is seeking approval from the Office of Management and Budget (OMB) for a renewal of the existing Information Collection 2120-0768. As required by the Paperwork Reduction Act of 1995 (PRA), the purpose of this notice is to allow 30 days for public comment. The Information Collection was previously published in the Federal Register on February 12, 2018 and allowed 60 days for the public comment.

The FAA proposes collecting information related to requests to operate Unmanned Aircraft Systems (UAS) in controlled airspace. The FAA will use the collected information to make determinations whether to authorize or deny the requested operation of UAS in controlled airspace. The proposed information collection is necessary to issue such authorizations or denials consistent with the FAA's mandate to ensure safe and efficient use of national airspace.

In addition, the FAA proposes collecting information related to requests for waiver from the waivable provisions of the applicable regulations. The proposed information collection is necessary to determine whether the proposed operation is eligible for waiver consistent with the FAA's mandate to ensure safe and efficient use of national airspace.

Several comments received were either positive or pertained to matters not directly addressed in this Information Collection.

DATES: Written comments should be submitted by May 29, 2018.

ADDRESSES: You may submit comments [identified by Docket No. FAA-2017-0975] through one of the following methods:

• Federal eRulemaking Portal: http://www.regulations.gov. Follow the online instructions for submitting comments.

• Fax: 1-202-493-2251.

• Mail or Hand Delivery: Docket Management Facility, U.S. Department of Transportation, 1200 New Jersey Avenue SE, West Building, Room W12-140, Washington, DC 20590, between 9 a.m. and 5 p.m., Monday through Friday, except on Federal holidays.

FOR FURTHER INFORMATION CONTACT: Casey Nair, FAA's UAS Low Altitude Authorization and Notification Capability (LAANC) Program Manager, tel (202) 267-0369 or via email at Casey.Nair@faa.gov.

SUPPLEMENTARY INFORMATION: Public Comments Invited. You are asked to comment on any aspect of this information collection, including (a) whether the proposed collection of information is necessary for the FAA's performance; (b) the accuracy of the estimated burden; (c) ways for the FAA to enhance the quality, utility, and clarity of the information collection; and (d) ways that the burden could be minimized without reducing the quality of the collected information.

Title: Renewal of Existing Information Collection 2120-0768.

OMB Control Number: 2120-0768.

Form Number(s): There are no FAA forms associated with this collection.

Type of Review: Renewal of an information collection.

Background: The FAA has seen increased operations of small Unmanned Aircraft Systems (UAS) flying under 14 CFR part 107. Section 107.41 states that “no person may operate a small unmanned aircraft in Class B, Class C, or Class D airspace or within the lateral boundaries of the surface area of Class E airspace designated for an airport unless that person has prior authorization from Air Traffic Control (ATC).” Such authorization may be obtained in the form of either an airspace authorization issued by the FAA or a waiver of the authorization requirements of 14 CFR 107.41 (airspace waiver). Additionally, operators may request waivers of the other operational requirements listed in § 107.205 (operational waivers).

In order to process authorization and airspace waiver requests, the FAA requires the operator's name, the operator's contact information, and information related to the date, place, and time of the requested small UAS operation. This information is necessary for the FAA to meet its statutory mandate of maintaining a safe and efficient national airspace. See 49 U.S.C. 40103 and 44701; Public Law 112-95, Section 333.

Additionally, if the operator is seeking an operational waiver from one of the other regulations listed in 14 CFR 107.205, further information is required related to the proposed waiver and any necessary mitigations. The FAA will use the requested information to determine if the proposed UAS operation can be conducted safely.

The FAA proposes to use LAANC and a web portal to process authorization requests from the public to conduct part 107 flight operations pursuant to § 107.41. The FAA also proposes to use the web portal to process requests from the public to conduct part 107 flight operations that require an operational waiver or an airspace waiver.

Summary of Comments: The FAA received three comments during the published public comment period that began on February 12, 2018. One commenter asserted that the process for part 107 operators to obtain authorization from ATC is overbearing and that part 107 operators should be allowed to contact ATC directly via the telephone. The large number of potential telephone calls (estimated at over 200,000 from 2018 to 2020) makes this proposed solution unfeasible and such a process would increase the burden on part 107 operators by creating unreasonably long wait times for approval and would increase uncertainty and inconsistency of authorization when ATC cannot be reached. Under the web portal process, which processes individual requests such as the one proposed here, the wait time for a response is 90+ days.

Another comment addressed procedures for implementing Control and Non-Payload Communications Links and does not pertain to the matters addressed in this Information Collection.

The final comment was from the Air Line Pilots Association, International (ALPA), which addressed a number of issues, grouped in two main categories. First, ALPA commented that the use of LAANC and the web portal to process authorization requests to conduct part 107 flight operations in controlled airspace has not been subject to sufficient safety risk evaluation. Both LAANC and the web portal are administrative systems. Neither introduce change to the NAS enterprise architecture or any alteration to any established FAA processes including those that involve safety. LAANC and the web portal provide another means for part 107 operators to comply with part 107's established requirements and safety processes. Both LAANC and the web portal are in alignment with part 107.

Second, ALPA commented that the FAA has not determined through its SMS process the risk that UAS operating in controlled airspace introduce to the NAS and, therefore, ALPA is unable to determine if the information collected is adequate. This second category of comments was substantially the same as comments that ALPA submitted to the earlier Notice of Proposed Rule Making (NPRM) that was eventually implemented as a final rule at 81 FR 42063 on June 28, 2016 and codified as 14 CFR part 107. Part 107 addresses ALPA's safety concerns. The FAA analyzed the proposed information to be collected from the public for both authorization requests and waivers and determined that the information is sufficient for the FAA to meet the previously established requirements.

Additionally, the FAA has re-reviewed the nine comments that were received in response to the earlier published Federal Register notice for the emergency approval of the existing Information Collection 2120-0768, published on October 12, 2017 at 82 FR 47289. Six of these comments were positive and supported the implementation of an automated system to process authorization requests. Two comments discussed the wait times under the non-automated approval process and involved the commenters' disagreement with the requirements of part 107. These comments pertain to matters not directly addressed in this Information Collection. The remaining comment made a recommendation to allow local emergency management officials to create temporary “no fly” zones to support emergency operations. This comment is also not directly related to the matters addressed in this Information Collection.

Affected Public: Small UAS operators seeking to conduct flight operations under 14 CFR part 107 either within controlled airspace or that require waiver from certain provisions of part 107.

Frequency of Submission: The requested information will need to be provided each time a respondent requests an airspace authorization to operate a small UAS under 14 CFR part 107 in controlled airspace. A respondent may reduce the frequency by seeking and obtaining an airspace waiver to conduct recurring operations. For requests for operational waivers, a respondent will only need to provide the information once at the time of the request for waiver. If granted, operational waivers may be valid for up to four (4) years.

Number of Respondents: Between 2018-2020, the FAA estimates it will receive a total of 203,116 requests for airspace authorizations, 24,721 requests for airspace waivers, and 15,169 requests for operational waivers. The FAA has increased the estimated number of requests for airspace authorizations to 203,116 from the 160,766 that was estimated in the published 60-Day Notice due to the change in the forecast of UAS growth that was published in the FAA Aerospace Forecast for Fiscal Years 2018-2038.

Total Annual Burden: The FAA estimates that the annual burden hours on respondents will be 11,948 hours (4,173 hours for LAANC respondents and 7,775 hours for web portal respondents) for airspace authorizations, 4,120 hours for airspace waivers, and 3,286 hours for operational waivers. The estimated total annual burden hours increased from the 9,953 hours published in the 60-Day Notice to 11,948 hours due to the change in the forecast of UAS growth that was published in the FAA Aerospace Forecast for Fiscal Years 2018-2038.

Under 44 U.S.C. 3507(a) and 5 CFR 1320.5(b), 1320.8(b)(3)(vi), FAA informs all interested parties that it may not conduct or sponsor, and a respondent is not required to respond to, a collection of information unless it displays a currently valid OMB control number.

Authority: 44 U.S.C. 3501-3520.

Issued in Washington, DC, on April 20, 2018.
Casey Nair,
UAS LAANC Program Manager.

[FR Doc. 2018-08707 Filed 4-25-18; 8:45 am]

BILLING CODE 4910-13-P